DEPARTMENT OF COMMERCE

National Oceanic and Atmospheric Administration

[I.D. 101006C]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) to convene a workgroup of its Socioeconomic Panel (SEP) via conference call.

DATES: The conference call will be held November 2, 2006, at 11 a.m. EDT.

ADDRESSES: The meeting will be held via conference call and listening stations will be available. For specific locations see SUPPLEMENTARY INFORMATION.

Council address: Gulf of Mexico Fishery Management Council, 2203 North Lois Avenue, Suite 1100, Tampa, FL 33607.

FOR FURTHER INFORMATION CONTACT: Assane Diagne, Economist, Gulf of Mexico Fishery Management Council; telephone: (813) 348-1630.

SUPPLEMENTARY INFORMATION: The conference call will begin at 11 a.m. EDT and conclude no later than 1 p.m. EDT. Listening stations are available at the following locations:

The Gulf Council office (see ADDRESSES), and

The National Marine Fisheries Service office, 263 13th Avenue South, St. Petersburg, FL 33701; Contact: Stephen Holiman, (727) 551-5719.

The SEP workgroup will hold a conference call to discuss methods and data needed to evaluate total allowable catch (TAC) allocations between the recreational and commercial sectors.

Although other non-emergency issues not on the agenda may come before the SEP workgroup for discussion, in accordance with the Magnuson-Stevens Fishery Conservation and Management Act (Magnuson-Stevens Act), those issues may not be the subject of formal action during the meeting. Actions will be restricted to the issue specifically identified in the agenda and any issues arising after publication of this notice that require emergency action under Section 305(c) of the Magnuson-Stevens Act, provided the public has been notified of the SEP workgroup's intent to take action to address the emergency.

Special Accommodations

The meetings are physically accessible to people with disabilities. Requests for sign language interpretation or other auxiliary aids should be directed to Tina Trezza at the Council (see ADDRESSES) at least 5 working days prior to the meeting.

Dated: October 11, 2006.
Tracey L. Thompson,
Acting Director, Office of Sustainable Fisheries, National Marine Fisheries Service.

[FR Doc. E6-17075 Filed 10-13-06; 8:45 am]

BILLING CODE 3510-22-S